DEPARTMENT OF JUSTICE

[OMB Number 1110-0009]

Agency Information Collection Activities; Proposed eCollection eComments Requested; Revision of a Previously Approved Collection; Law Enforcement Officers Killed and Assaulted Data Collection, LEOKA Collection Tool 701 for Feloniously Killed; and LEOKA Collection Tool 701a for Accidentally Killed

AGENCY: Federal Bureau of Investigation, Department of Justice.

ACTION: 60-Day notice.

SUMMARY: The Federal Bureau of Investigation (FBI), Criminal Justice Information Services Division, Department of Justice (DOJ), will be submitting the following information collection request to the Office of Management and Budget (OMB) for review and approval in accordance with the Paperwork Reduction Act of 1995.

DATES: Comments are encouraged and will be accepted for 60 days until January 22, 2024.

FOR FURTHER INFORMATION CONTACT: If you have additional comments especially on the estimated public burden or associated response time, suggestions, or need a copy of the proposed information collection instrument with instructions or additional information, please contact Mr. Edward Abraham, Unit Chief, Federal Bureau of Investigation, Criminal Justice Information Services Division, Module D-1, 1000 Custer Hollow Road, Clarksburg, West Virginia 26306, 304-625-4830, elabraham@fbi.gov or LEOKA.STATISTICS@fbi.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Under title 28, United States Code, section 534, Acquisition, preservation, and exchange of identification records; appointment of officials, this collection requests the number of officers killed or assaulted from law enforcement agencies in order for the Federal Bureau of Investigation Uniform Crime Reporting Program to serve as the national clearinghouse for the collection and dissemination of law enforcement officer death/assault data and to publish these statistics in Law Enforcement Officers Killed and Assaulted.

Overview of This Information Collection

1. Type of Information Collection: Revision of a previously approved collection.

2. The Title of the Form/Collection: Law Enforcement Officers Killed and Assaulted Data Collection, LEOKA Collection Tool 701 for Feloniously Killed; and LEOKA Collection Tool 701a for Accidentally Killed.

3. The agency form number, if any, and the applicable component of the Department sponsoring the collection: The form number is 1-701 and 1-701a. The applicable component within the Department of Justice is the Criminal Justice Information Services Division, in the Federal Bureau of Investigation.

4. Affected public who will be asked or required to respond, as well as the obligation to respond: Affected Public: Federal, state, county, city, local, and tribal law enforcement agencies. The obligation to respond is voluntary.

5. An estimate of the total number of respondents and the amount of time estimated for an average respondent to respond: Uniform Crime Reporting Participation Burden Estimation: For 2022, there were approximately 118 law enforcement agency respondents with an estimated response time of one hour per report.

6. An estimate of the total annual burden (in hours) associated with the collection: There are approximately 118 hours, annual burden, associated with this information collection.

7. An estimate of the total annual cost burden associated with the collection, if applicable: $0.

Total Burden Hours
Activity | Number of respondents | Frequency | Total annual responses | Time per response (hours) | Total annual burden (hours)
1-701 and 1-701a | 118 | 1/annually | 118 | 1 | 118
Unduplicated Totals | 118 |  | 118 |  | 118

If additional information is required contact: Darwin Arceo, Department Clearance Officer, United States Department of Justice, Justice Management Division, Policy and Planning Staff, Two Constitution Square, 145 N Street NE, 4W-218, Washington, DC.

Dated: November 15, 2023.
Darwin Arceo,
Department Clearance Officer for PRA, U.S. Department of Justice.

[FR Doc. 2023-25643 Filed 11-20-23; 8:45 am]

BILLING CODE 4410-02-P